DEPARTMENT OF AGRICULTURE

Animal and Plant Health Inspection Service

[Docket No. APHIS-2014-0062]

Privacy Act of 1974; System of Records

AGENCY: Animal and Plant Health Inspection Service, USDA.

ACTION: Notice of a modified system of records.

SUMMARY: The Animal and Plant Health Inspection Service (APHIS) is modifying a system of records in its inventory of records systems subject to the Privacy Act of 1974, as amended. The system of records being modified is the Smuggling Interdiction and Trade Compliance (SITC) National Information Communication Activity System (SNICAS), USDA/APHIS-21. SNICAS maintains a record of activities conducted by the agency pursuant to its mission and authorized responsibilities. The purpose of the system is to record data and information about APHIS' SITC activities nationwide. We are modifying the system to exempt the system from certain provisions of the Privacy Act.

DATES: The exemption will become effective on February 10, 2025.

FOR FURTHER INFORMATION CONTACT: For general questions, please contact Mr. Ricardo Valdez, Pest Exclusion and Import Programs, National Policy Manager, SITC, PPQ, APHIS, 4700 River Road, Riverdale, MD 20737; (443) 745-7931; SITC.Mail@usda.gov. For Privacy Act questions concerning this system of records notice, please contact Director, Freedom of Information and Privacy Act Staff, 4700 River Road Unit 50, Riverdale, MD 20737; (301) 851-4076; email: APHISPrivacy@usda.gov. For USDA Privacy Act questions, please contact the USDA Chief Privacy Officer, Information Security Center, Office of Chief Information Officer, USDA, Jamie L. Whitten Building, 1400 Independence Ave. SW, Washington, DC 20250; email: USDAPrivacy@usda.gov.

SUPPLEMENTARY INFORMATION: Pursuant to the provisions of the Privacy Act of 1974 (5 U.S.C. 552a), notice is given that the Animal and Plant Health Inspection Service (APHIS) of the U.S. Department of Agriculture (USDA) is proposing to modify a system of records, USDA/APHIS-21, Smuggling Interdiction and Trade Compliance (SITC) National Information Communication Activity System (SNICAS).

On July 11, 2022, APHIS published SNICAS as a new system of records in the Federal Register (87 FR 41098-41101, Docket No. APHIS-2014-0062). (To view the notice, go to www.regulations.gov, and enter APHIS-2014-0062 in the Search field.) SNICAS maintains a record of activities conducted by the agency pursuant to its mission and responsibilities authorized by the Plant Protection Act (7 U.S.C. 7701 et seq.); the Animal Health Protection Act (7 U.S.C. 8301 et seq.); and the Honey Bee Act (7 U.S.C. 281 et seq.). The purpose of the system is to record data and information about APHIS' SITC activities nationwide. SITC is within APHIS' Plant Protection and Quarantine program.

SITC officials use the information in SNICAS to identify and close pathways used for the introduction of prohibited commodities and those regulated commodities that lack the necessary certificates and permits to enter U.S. commerce. SITC officials also use SNICAS to perform activities such as legal and regulatory actions; scientific research; risk, trend, pathway and targeting analyses; trade support; administrative and budgetary support; supervision and program management; and overall decision support services. Additionally, SITC officials use SNICAS to generate reports to evaluate the risk status of the commercial sites where regulated commodities are seized, the effectiveness of the program, and quality control of the data.

Among other things, in addition to listing the routine uses and how information in the system is used, APHIS will share information from the system pursuant to the requirements of the Privacy Act and, in the case of its routine uses, when the disclosure is compatible with the purpose for which the information was compiled. APHIS proposed to exempt specific records in the system from certain Privacy Act requirements in accordance with 5 U.S.C. 552a(k)(2) (Investigative Law Enforcement Materials). APHIS proposed to exempt the system from Privacy Act access requirements including 5 U.S.C. 552a(c)(3); (d); (e)(1); (e)(4)(G), (H), and (I); and (f), and indicated that an individual who is the subject of a record in this system may not seek access to those records that are exempt from the access provisions. A determination of whether a record may be accessed would be made at the time a request is received.

We solicited comments on the SNICAS system of records notice for 30 days ending on August 10, 2022. We received no comments.

Concurrently with the publication of the SNICAS system of records notice, we published a proposed rule in accordance with the requirements of 5 U.S.C. 553(b), (c), and (d) in the same issue of the Federal Register (87 FR 41077-41078, Docket No. APHIS-2015-0008) to exempt the SNICAS system of records from certain provisions of the Privacy Act to prevent interference with law enforcement functions.

We solicited comments on the proposed rule for 30 days ending August 10, 2022. We received no comments by that date. A final rule has been issued in accordance with the requirements of 5 U.S.C. 553(b), (c), and (d) and has been published in today's Federal Register (Docket No. APHIS-2015-0008).

Therefore, we are modifying the SNICAS system of records to add the exemption for law enforcement purposes pursuant to 5 U.S.C. 552a(k)(2) of the Privacy Act.

SYSTEM NAME AND NUMBER:

USDA/APHIS-21, Smuggling Interdiction and Trade Compliance (SITC) National Information Communication Activity System (SNICAS).

SECURITY CLASSIFICATION:

Sensitive but unclassified.

SYSTEM LOCATION:

The Animal and Plant Health Inspection Service (APHIS), within the U.S. Department of Agriculture (USDA), maintains records in a Government-approved cloud server accessed through secure data centers in the continental United States. Paper files are held at various Plant Protection and Quarantine (PPQ) Smuggling Interdiction and Trade Compliance national, district, and field offices.

SYSTEM MANAGER(S):

Deputy Administrator of Plant Protection and Quarantine, APHIS, USDA, 4700 River Road, Riverdale, MD 20737.

* * * * *

EXEMPTIONS PROMULGATED FOR THE SYSTEM:

The Agency has exempted this system from subsections (c)(3); (d); (e)(1); (e)(4)(G), (H), and (I); and (f) of the Privacy Act pursuant to 5 U.S.C. 552a(k)(2). The exemptions will be applied only to the extent that the information in the system is subject to exemption pursuant to 5 U.S.C. 552a(k)(2).

HISTORY:

Smuggling Interdiction and Trade Compliance (SITC) National Information Communication Activity System (SNICAS), USDA/APHIS-21, was published as a new system in its entirety on July 11, 2022, (87 FR 41098-41101, Docket No. APHIS-2014-0062).

A report on the modified system of records, required by 5 U.S.C. 552a(r), as implemented by Office of Management and Budget Circular A-108, was sent to the Chairman and Ranking Member of the House Committee on Oversight and Reform, Chairman and Ranking

Member of the Senate Committee on Homeland Security and Governmental Affairs, and the Administrator of the Office of Management and Budget's Office of Information and Regulatory Affairs.

Done in Washington, DC, this 12th day of December 2024.
Michael Watson,
Administrator, Animal and Plant Health Inspection Service.

[FR Doc. 2025-00335 Filed 1-8-25; 8:45 am]

BILLING CODE 3410-34-P